DEPARTMENT OF ENERGY

Federal Energy Regulatory Commission

[Docket No. RR07-8-000]

Delegation Agreement Between the North American Electric Reliability Corporation and Florida Reliability Coordinating Council; Notice of Filing

December 21, 2006.

On December 21, 2006, the North American Electric Reliability Corporation (NERC) submitted for Commission approval a delegation agreement between NERC and the Florida Reliability Coordinating Council. The delegation agreement has been assigned to the existing docket number referenced above, which was created for a draft version of the agreement previously filed for informational purposes.

The Commission encourages electronic submission of comments in lieu of paper using the “eFiling” link at http://www.ferc.gov. Persons unable to file electronically should submit an original and 14 copies of the protest or intervention to the Federal Energy Regulatory Commission, 888 First Street, NE., Washington, DC 20426. This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Interested parties may file comments on this filing on or before January 10, 2007.

Magalie R. Salas,
Secretary.

[FR Doc. E6-22350 Filed 12-28-06; 8:45 am]

BILLING CODE 6717-01-P